DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 A.M. and 5 P.M. in Suite 4100W, U.S. Department of Commerce, Franklin Court Building, 1099 14th Street, NW., Washington, DC.

Docket Number: 01-024. Applicant: Howard Hughes Medical Institute, 4000 Jones Bridge Road, Chevy Chase, MD 20815-6789.

Instrument: Electron Microscope, Model JEM-1010. Manufacturer: JEOL Ltd., Japan. Intended Use: The instrument is intended to be used for the study of the Drosophilia neuromuscular junction and optic lobe, and rodent and human tissues. Of interest is the process by which snyaptic vesicles are synthesized, fuse with the plasma membrane, release their contents and are recycled within the nerve cell. Several neurodegenerative diseases using mouse models of specific human diseases including Spinocerebral ataxia and Rett Syndrome will also be studied. Application accepted by Commissioner of Customs: November 16, 2001.

Docket Number: 01-026. Applicant: Emory University, Department of Pharmacology, Room 5160, W Rollins Center, 1510 Clifton Road, Atlanta, GA 30322. Instrument: High Speed CCD Camera System Set, Model MiCAM 01. Manufacturer: SciMedia Ltd., Japan.

Intended Use: The instrument is intended to be used in experiments to study stroke and ischemia involving protease-activated-receptors (PAR). The instrument will allow direct testing where the PARs are located in the brain and the effect of activation. Application accepted by Commissioner of Customs: December 10, 2001.

Docket Number: 00-027. Applicant: University of Cincinnati, 3125 Eden Avenue, PO Box 670521, Cincinnati, OH 45267-0521.

Instrument: Electron Microscope, Model JEM-1230. Manufacturer: JEOL, Ltd, Japan.

Intended Use: The instrument is intended to be used in the following experiments:

(1) Using immunocytochemical methods at the ultrastructural level, the normal cellular distribution of known trafficking molecules, and their altered localization in Hermansky-Pudlak Syndrome cell lines will be assessed.

(2) To determine whether transgenic techniques designed to interrupt the cytoskeleton were successful in disrupting the structure of the intermediate filament component of the cytoskeleton.

(3) Circadian transplant studies to confirm that graft efferents actually establish synaptic contacts with host brain regions among animals exhibiting different patterns of behavioral recovery.

(4) Studies on transgenic mouse lines in which the endogenous surfactant protein B (SP-B) gene has been inactivated and replaced with a human transgene encoding a deleted/mutated SP-B proprotein.

Application accepted by Commissioner of Customs: December 28, 2001.

Docket Number: 02-001. Applicant: University of Vermont, Department of Orthopaedics, Burlington, VT 05405. Instrument: Upgrade for X-ray based Motion Analysis System. Manufacturer: RSA BioMedical Innovations AB, Sweden. Intended Use: The instrument is intended to be used to make measurements of the biomechanical behavior of different joints of the body and to study different types of joint trauma, surgical repair, and healing responses. Application accepted by Commissioner of Customs: January 22, 2002.

Docket Number: 02-002. Applicant: Fox Chase Cancer Center, 7701 Burholme Avenue, Philadelphia, PA 19111. Instrument: Electron Microscope, Model Tecnai 12 BioTWIN. Manufacturer: FEI Company, The Netherlands. Intended Use: The instrument is intended to be used to study biological materials including nucleic acids, proteins, organelles, cultured cells, and tissues prepared for electron microscopy. Specifically, studies of ultrastructure and the intracellular localization and trafficking of biologically important molecules including chromatin, structures critical to the regulation of DNA replication, cytokinesis, and meiosis, products of oncogene and tumor suppressor genes, and viral components. Application accepted by Commissioner of Customs: January 22, 2002.

Docket Number: 02-003. Applicant: Albert Einstein College of Medicine of Yeshiva University, 1300 Morris Park Avenue, Bronx, NY 10461. Instrument: Electron Microscope, Model Tecnai 20. Manufacturer: FEI Company, The Netherlands. Intended Use: The instrument is intended to be used to study the structure of biological macromolecular complexes and to determine the 3-dimensional structure of the cytoskeleton of normal metastatic mammalian cells and the mechanism of intracellular transport and cell movement. Application accepted by Commissioner of Customs: January 22, 2002.

Gerald A. Zerdy,
Program Manager, Statutory Import Programs Staff.

[FR Doc. 02-4669 Filed 2-26-02; 8:45 am]

BILLING CODE 3510-DS-P